DEPARTMENT OF ENERGY

Federal Energy Regulatory Commission

[Docket No. RP99-159-003]

Southern Natural Gas Company; Notice of Tariff Filing

August 8, 2001.

Take notice that on August 6, 2001, Southern Natural Gas Company (Southern), tendered for filing as part of its FERC Gas Tariff, Seventh Revised Volume No. 1, Third Substitute Second Revised Sheet No. 45, with an effective date of June 4, 2001.

Southern states that the purpose of the filing is to clarify that the net revenue gain criteria will be met and Southern will pay for the cost of construction in cases where the construction cost is less than the revenue reduction resulting from a shipper reducing its transportation quantity or failing to renew its Service Agreement under Rate Schedule FT. Southern is making this filing in compliance with the Commission's July 25, 2001 Order in this proceeding.

Southern states that copies of the filing will be served upon its shippers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20345 Filed 8-13-01; 8:45 am]

BILLING CODE 6717-01-P